ELECTION ASSISTANCE COMMISSION

Cancellation Notice of a Sunshine Act Meeting

AGENCY: United States Election Assistance Commission (EAC).

ACTION: Notice to cancel EAC public meeting.

SUMMARY: The U.S. Election Assistance Commission has cancelled the EAC Public Meeting scheduled for Thursday, May 27, 2010, 10 a.m. to 3 p.m. EDT. The meeting was announced in a sunshine notice that was published in the Federal Register on Friday, May 21, 2010 in Volume 75, Number 98.

Person to Contact for Information: Bryan Whitener, Telephone: (202) 566-3100.

Thomas R. Wilkey,
Executive Director, U.S. Election Assistance Commission.

[FR Doc. 2010-13115 Filed 5-27-10; 11:15 am]

BILLING CODE 6820-KF-P